DEPARTMENT OF COMMERCE

International Trade Administration

[C-549-818]

Certain Hot-Rolled Carbon Steel Flat Products from Thailand; Notice of Rescission of Countervailing Duty Administrative Review

AGENCY: Import Administration, International Trade Administration, U.S. Department of Commerce.

SUMMARY: In accordance with 19 CFR 351.213(b)(1), petitioner, United States Steel Corporation, submitted a timely request for an administrative review of the countervailing duty order on hot-rolled carbon steel flat products from Thailand for Sahaviriya Steel Industries Public Company Limited (SSI). We initiated this review on January 22, 2004. See Initiation of Antidumping and Countervailing Duty Administrative Reviews and Request for Revocation in Part, 69 FR 3117 (January 22, 2004) (Initiation Notice). We are now rescinding this administrative review because petitioner has withdrawn its request for review in accordance with 19 CFR § 351.213(d)(1).

FOR FURTHER INFORMATION CONTACT: Sean Carey, AD/CVD Enforcement, Group III, Office 7, Import Administration, U.S. Department of Commerce, 14th Street and Constitution Avenue, NW, Washington, DC 20230; telephone (202) 482-3964.

SUPPLEMENTARY INFORMATION:

Background

On December 3, 2001, the Department of Commerce (the Department) published a countervailing duty order on certain hot-rolled carbon steel flat products (hot-rolled steel) from Thailand. See Notice of Countervailing Duty Orders: Certain Hot-Rolled Carbon Steel Flat Products from Thailand, 66 FR 60197 (December 3, 2001). On December 31, 2003, petitioner, United States Steel Corporation, requested an administrative review of the countervailing duty order for hot-rolled steel from Thailand, produced/exported by SSI during the period January 1, 2002 through December 31, 2002. In accordance with 19 CFR 351.221(c)(1)(i), we published a notice of initiation of the review on January 22, 2004. See Initiation Notice. On February 27, 2004, petitioner withdrew its request for review.

Rescission of Countervailing Duty Administrative Review

The Department's regulations at 19 CFR 351.213(d)(1) provide that the Department will rescind an administrative review if a party that requested a review withdraws the request within 90 days of the date of publication of the notice of initiation of the requested review. Petitioner, United States Steel Corporation, withdrew its request for an administrative review on February 27, 2004, which is within the 90-day deadline. No other party requested a review of the order. Therefore, the Department is rescinding this administrative review for the period January 1, 2002 through December 31, 2002.

The Department will issue appropriate assessment instructions directly to U.S. Customs and Border Protection (CBP) within 15 days of publication of this notice. The Department will direct CBP to assess countervailing duties for all entries of subject merchandise, including those produced or exported by SSI, at the cash deposit rate in effect on the date of entry during the period January 1, 2002 through December 31, 2002.

This determination and notice are issued and published in accordance with 19 CFR 351.213(d)(4) and sections 751(a)(1) and 777(i)(1) of the Act.

Dated: April 8, 2004.
James J. Jochum,
Assistant Secretary for Import Administration.

[FR Doc. 04-8798 Filed 4-16-04; 8:45 am]

BILLING CODE 3510-DS-S